DEPARTMENT OF COMMERCE

Foreign-Trade Zones Board

[Docket 57-2010]

Foreign-Trade Zone 148—Knoxville, TN, Toho Tenax America, Inc. (Carbon Fiber Manufacturing Authority), Opening of Comment Period on New Evidence

On November 7, 2012, the Foreign-Trade Zones (FTZ) Board approved Subzone 148C at the manufacturing facilities of Toho Tenax America, Inc. (TTA), located in Rockwood, Tennessee, with authority to manufacture carbon fiber for export and oxidized polyacrylonitrile fiber (Board Order 1868, 77 FR 69435, 11/19/2012). Board Order 1868 did not include authority to manufacture carbon fiber for the U.S. market; the request for such authority will continue to be reviewed by the FTZ Board's staff before the staff makes any recommendation to the FTZ Board for a final decision.

On November 16, 2012, the Industrial Development Board of Blount County, grantee of FTZ 148, made a submission to the FTZ Board (incorporating information from TTA) that included new evidence in response to the FTZ staff's preliminary recommendation not to authorize TTA to manufacture carbon fiber for the U.S. market at this time. Public comment is invited on the applicant's new submission through January 11, 2013. Rebuttal comments may be submitted during the subsequent 15-day period, until January 28, 2013. Submissions shall be addressed to the Board's Executive Secretary at: Foreign-Trade Zones Board, U.S. Department of Commerce, Room 21013, 1401 Constitution Ave. NW., Washington, DC 20230.

A copy of the applicant's November 16, 2012, submission will be available for public inspection at the address above, and in the “Reading Room” section of the Board's Web site, which is accessible via www.trade.gov/ftz.

For further information, contact Diane Finver at Diane.Finver@trade.gov or (202) 482-1367.

Dated: December 6, 2012.
Andrew McGilvray,
Executive Secretary.

[FR Doc. 2012-29974 Filed 12-11-12; 8:45 am]

BILLING CODE P